DEPARTMENT OF THE INTERIOR

Bureau of Land Management

[LLOR-936000-14300000-ET0000; HAG-11-0188; WAOR-7964]

Public Land Order No. 7759; Extension of Public Land Order No. 6833; Washington

AGENCY: Bureau of Land Management, Interior.

ACTION: Public land order.

SUMMARY: This order extends the duration of the withdrawal created by Public Land Order No. 6833 for an additional 20-year period. The extension is necessary to continue to protect the unique natural and ecological research values of the United States Forest Service's Wolf Creek Research Natural Area.

DATES: Effective Date: March 21, 2011.

FOR FURTHER INFORMATION CONTACT: Charles R. Roy, Bureau of Land Management, Oregon/Washington State Office, 503-808-6189, or Gregory B. Graham, Okanogan-Wenatchee National Forest, 509-664-9262.

SUPPLEMENTARY INFORMATION: The purpose for which the withdrawal was first made requires this extension to continue the protection of the unique natural and ecological research values at the Wolf Creek Research Natural Area. The withdrawal extended by this order will expire on March 20, 2031, unless, as a result of a review conducted prior to the expiration date pursuant to Section 204(f) of the Federal Land Policy and Management Act of 1976, 43 U.S.C. 1744(f), the Secretary determines that the withdrawal shall be further extended.

Order

By virtue of the authority vested in the Secretary of the Interior by Section 204 of the Federal Land Policy and Management Act of 1976, 43 U.S.C. 1714, it is ordered as follows:

Public Land Order No. 6833 (56 FR 11940 (1991)), which withdrew 142.90 acres of National Forest System land from location and entry under the United States mining laws (30 U.S.C. ch. 2) to protect the Wolf Creek Research Natural Area, is hereby extended for an additional 20-year period until March 20, 2031.

Authority: 43 CFR 2310.4.

Dated: February 23, 2011.
Wilma A. Lewis,
Assistant Secretary—Land and Minerals Management.

[FR Doc. 2011-4869 Filed 3-3-11; 8:45 am]

BILLING CODE 4310-33-P